DEPARTMENT OF STATE

[Public Notice 6055]

Privacy Act of 1974; System of Records

Summary: Passport Services has prepared an update of its system of records notice (SORN) as required by the Privacy Act 5 U.S.C. 552a and Appendix I to OMB Circular A-130 (“Federal Agency Responsibilities for Maintaining Records About Individuals”). Publication in the Federal Register of the updated SORN will establish a number of new “routine uses” for sharing passport records outside the Department of State. The purpose in granting access to other entities varies, but principally encompasses the following functions:

• To support national defense, border security, and foreign policy activities;

• To ensure the proper functioning and integrity of law enforcement, counterterrorism, and fraud-prevention activities by supporting law enforcement personnel in the conduct of their duties;

• To support the investigatory process; and

• To assist with verification of passport validity to support employment eligibility and identity corroboration for public and private employment.

New routine users listed in the SORN include the Department of Homeland Security, the National Counter-Terrorism Center, the Department of Justice (including components such as the FBI), foreign governments, and entities such as Interpol, for counter-terrorism and other purposes such as border security and fraud prevention.

New routine uses are not considered effective until after a 40-day period enabling review and comment by the public, OMB and Congress.

SYSTEM NAME:

Passport Records (STATE-26).

SECURITY CLASSIFICATION:

Classified and unclassified.

SYSTEM LOCATION:

Department of State, Passport Services, Annex 17, 1111 19th Street, NW., Washington, DC 20522-1705.

CATEGORIES OF INDIVIDUALS COVERED BY THE SYSTEM:

Records are maintained in the Passport Records system about individuals who:

(a) Have applied for the issuance, amendment, extension, or renewal of U.S. passport books and passport cards;

(b) Were issued U.S. passport books or cards, or had passports amended, extended, renewed, limited, revoked, or denied;

(c) Have applied to have births overseas reported as births of U.S. citizens overseas;

(d) Were issued a Consular Report of Birth Abroad of U.S. citizens or for whom Certification(s) of Birth have been issued;

(e) Applied at American Diplomatic or Consular posts for registration and have so registered;

(f) Were issued Cards of Registration and Identity as U.S. citizens;

(g) Were issued Certificates of Loss of Nationality of the United States by the Department of State;

(h) Applied at American Diplomatic or Consular Posts for issuance of Certificates of Witness to Marriage, and individuals who have been issued Certificates of Witness to Marriage;

(i) Were deceased individuals for whom a Report of Death of an American Citizen Abroad has been obtained;

(j) Although U.S. citizens, are not or may not be entitled under relevant passport laws and regulations to the issuance or possession of U.S. passport books, cards, or other documentation or service(s);

(k) Have previous passport records that must be reviewed before further action can be taken on their passport application or request for other consular services;

(l) Requested their own or another's passport records under FOIA or the Privacy Act, whether successfully or not; or

(m) Have corresponded with Passport Services concerning various aspects of the issuance or denial of a specific applicant's U.S. passport books or cards.

AUTHORITY FOR MAINTENANCE OF THE SYSTEM:

(a) 8 U.S.C. 1401-1503 (2007) (Acquisition and Loss of U.S. Citizenship or U.S. Nationality; Use of U.S. Passports);

(b) 18 U.S.C. 911, 1001, 1541-1546 (2007) (Crimes and Criminal Procedure);

(c) 22 U.S.C. 211a-218, 2651a, 2705 (2007); Executive Order 11295, August 5, 1966, 31 FR 10603; (Authority of the Secretary of State in granting and issuing U.S. passports); and

(d) 8 U.S.C. 1185 (2007) (Travel Control of Citizens).

CATEGORIES OF RECORDS IN THE SYSTEM:

Passport Services maintains U.S. passport records for passports issued from 1925 to the present, as well as vital records related to births abroad, deaths, and witnesses to marriages overseas. The passport records system does not maintain evidence of travel such as entrance/exit stamps, visas, or residence permits, since this information is entered into the passport book after it is issued. The passport records system includes the following categories of records:

• Passport books and passport cards, applications for passport books and passport cards, and applications for additional visa pages, amendments, extensions, replacements, and/or renewals of passport books or cards (including all information and materials submitted as part of or with all such applications);

• Applications for registration at American Diplomatic and Consular Posts as U.S. citizens or for issuance of Cards of Identity and Registration as U.S. Citizens;

• Consular Reports of Birth Abroad of United States citizens;

• Certificates of Witness to Marriage;

• Certificates of Loss of United States Nationality;

• Oaths of Repatriation;

• Consular Certificates of Repatriation;

• Reports of Death of an American Citizen Abroad;

• Cards of Identity and Registration as U.S. citizens;

• Lookout files which identify those persons whose applications for a consular or related service require other than routine examination or action; and

• Miscellaneous materials, which are documents and/or records maintained separately, if not in the application, including but not limited to the following types of documents:

○ Investigatory reports compiled in connection with granting or denying passport and related services or prosecuting violations of passport criminal statutes;

○ Transcripts and opinions on administrative hearings, appeals and civil actions in federal courts;

○ Legal briefs, memoranda, judicial orders and opinions arising from administrative determinations relating to passports and citizenship;

○ Birth and baptismal certificates;

○ Court orders;

○ Arrest warrants;

○ Medical, personal and financial reports;

○ Affidavits;

○ Inter-agency and intra-agency memoranda, telegrams, letters, and other miscellaneous correspondence;

○ An electronic index of all passport application records created since 1978, and some passport application records created between 1962 and 1978;

○ An electronic index of Department of State Reports of Birth of American Citizens abroad; and/or

○ Records of lost and stolen passports.

ROUTINE USES OF RECORDS MAINTAINED IN THE SYSTEM, INCLUDING CATEGORIES OF USERS AND PURPOSES OF SUCH USES:

The information maintained in the Passport Services records is used to establish the U.S. citizenship and identity of persons for a variety of legal purposes including, but not limited to, the adjudication of passport applications and requests for related services, social security benefits, employment applications, estate settlements, and federal and state law enforcement investigations.

The principal users of this information outside the Department of State include the following users:

• Department of Homeland Security for border patrol, screening, and security purposes; law enforcement, counterterrorism, and fraud prevention activities; and for verification of passport validity to support employment eligibility and identity corroboration for public and private employment;

• Department of Justice, including the Federal Bureau of Investigation, the Bureau of Alcohol, Tobacco, Firearms and Explosives, the U.S. Marshals Service, and other components, for law enforcement, counterterrorism, border security, fraud prevention, and criminal and civil litigation activities;

• Internal Revenue Service for the current addresses of specifically identified taxpayers in connection with pending actions to collect taxes accrued, examinations, and/or other related tax activities;

• INTERPOL and other international organizations for law enforcement, counterterrorism, fraud prevention, criminal activities related to lost and stolen passports;

• National Counterterrorism Center to support strategic operational planning and counterterrorism intelligence activities;

• Office of Personnel Management (OPM), other federal agencies, or contracted outside entities to support the investigations OPM, other federal agencies, and contractor personnel conduct for the federal government in connection with verification of employment eligibility and/or the issuance of a security clearance;

• Social Security Administration to support employment-eligibility verification for public and private employers, and for support in verification of social security numbers used in processing U.S. passport applications;

• Federal, state, local, or other agencies having information on an individual's history, nationality, or identity, to the extent necessary to obtain information from these agencies relevant to adjudicating an application for a passport or related service, or where there is reason to believe that an individual has applied for or is in possession of a U.S. passport fraudulently or has violated the law;

• Federal, state, local or other agencies for use in legal proceedings as government counsel deems appropriate, in accordance with any understanding reached by the agency with the U.S. Department of State;

• Public and private employers seeking to confirm the authenticity of the U.S. passport when it is presented as evidence of identity and eligibility to work in the United States;

• Immediate families when the information is required by an individual's immediate family;

• Private U.S. citizen “wardens” designated by U.S. embassies and consulates to serve, primarily in emergency and evacuation situations, as channels of communication with other U.S. citizens in the local community;

• Attorneys representing an individual in administrative or judicial passport proceedings when the individual to whom the information pertains is the client of the attorney making the request;

• Members of Congress when the information is requested on behalf of or at the request of the individual to whom the record pertains;

• Contractor personnel conducting data entry, scanning, corrections, and modifications;

• Foreign governments, to permit such governments to fulfill passport control and immigration duties and their own law enforcement, counterterrorism, and fraud prevention functions, and to support U.S. law enforcement, counterterrorism, and fraud prevention activities; and

• Government agencies other than the ones listed above that have statutory or other lawful authority to maintain such information may also receive access on a need-to-know basis; however, all information is made available to users only for a previously-established routine use.

Also see the “Routine Uses” paragraph of the Department of State Prefatory Statement published in the Federal Register.

STORAGE:

Hard copy, electronic media.

RETRIEVABILITY:

By individual name or passport book or card number.

SAFEGUARDS:

Passport records are protected by the Privacy Act of 1974, 5 U.S.C. 552a (2007). All employees of the Department of State have undergone a thorough background security investigation and contractors have background investigations in accordance with their contracts. Access to the Department of State and its annexes is controlled by security guards, and admission is limited to those individuals possessing a valid identification card or individuals under proper escort. Passport office annexes have security access controls (code entrances) and/or security alarm systems. All records containing personal information are maintained in secured file cabinets or in restricted areas, access to which is limited to authorized personnel. Access to computerized databases is password-protected and under the responsibility of the system manager and persons who report to him or her. The system manager has the capability of viewing and printing audit trails of access from the electronic media, thereby permitting monitoring of computer usage.

RETENTION AND DISPOSAL:

Retention of these records varies depending upon the specific record involved. They are retired or destroyed in accordance with published record schedules of the Department of State and as approved by the National Archives and Records Administration. More specific information may be obtained by writing to the Office of Information Programs and Services, SA-2, 555 22nd Street, NW., Washington, DC 20522.

SYSTEM MANAGER AND ADDRESS:

Deputy Assistant Secretary of State for Passport Services, Room 5807; Department of State; 2201 C Street, NW., Washington, DC 20520-4818.

NOTIFICATION PROCEDURE:

An individual seeking to determine whether Passport Services maintains records pertaining to him/her must submit a written request for notification of whether the system of records contains a record pertaining to him/her. The body of the request must state that s/he wishes the Passport Records database to be checked, and must include the following information:

• Name;

• Date and place of birth;

• Current mailing address;

• Signature, and

• Passport number, if known.

A request to search Passport Records, STATE-26, will be treated also as a request to search Overseas Citizens Services Records, STATE-05, when it pertains to passport, registration, citizenship, birth, or death records transferred from STATE-05 to STATE-26. Requests should be mailed to the following address: Department of State, Passport Services, Law Enforcement Liaison Division, Room 500, 1111 19th Street, NW., Washington, DC 20524-1705.

Responses to such requests will consist of a letter indicating the records that exist in the passport records system.

Additional information regarding applicable fees, third-party requests, certified copies, and frequently asked questions is available at http://www.travel.state.gov/:passport/services/:copies/copies:_872:.html.

RECORD ACCESS AND AMENDMENT PROCEDURES:

Individuals who wish to gain access to or amend records pertaining to themselves or their minor children should write to the appropriate address listed below. There are several ways individuals may gain access to or amend passport records pertaining to themselves or their minor children. First, individuals may request access to records in his/her name and the records of any minor children under the Privacy Act of 1974. 5 U.S.C. 552a (2007). Alternatively, third parties may request access to records under the guidelines of the Freedom of Information Act, 5 U.S.C. 552 (2007). Additionally, individuals may request access to their passport and/or vital records through the applicable Passport Office request process, as described below. Access may be granted to third parties to the extent provided for under applicable laws and regulations. Please refer to http://www.travel.state.gov for detailed information regarding applicable fees, third-party requests, certified copies, and frequently asked questions.

The appropriate methods by which passport records and vital records may be requested are as follows:

I. Privacy Act of 1974 and Freedom of Information Act

Under the Privacy Act of 1974, individuals have the right to request access to his or her records at no charge, and to request that the Department of State amend any such records that s/he believes are not accurate, relevant, timely, or complete. 5 U.S.C. 552a(d)(3) (2007). Additionally, third parties may request passport and vital records information from 1925 to the present, within the guidelines of the Privacy Act and the Freedom of Information Act, 5 U.S.C. 552 (2007). Written requests for access to or amendment of records must comply with the Department's regulations published at 22 CFR part 171.

In accordance with 22 CFR 171.32 and 171.33, amendment requests must include the following information:

• Verification of personal identity (including full name, current address, and date and place of birth), either notarized or submitted under penalty of perjury;

• Any additional information if it would be needed to locate the record at issue;

• A description of the specific correction requested;

• An explanation of why the existing record is not accurate, relevant, timely, or complete; and

• Any available documents, arguments, or other data to support the request.

Requests under the Privacy Act and/or the Freedom of Information Act must be made in writing to the following office: Office of Information Programs and Services, U.S. Department of State, SA-2, Room 8100, 515 22nd Street, NW., Washington, DC 20522-8100.

II. Access to Records through the Passport Office Request Process

A. Passport Records

1. 1925 to the Present

Individuals must submit a typed or clearly printed, notarized request that provides the following information to request passport records for themselves and/or their minor children:

• Full name at birth and any subsequent name changes, and/or the full name of any minor child or children, if requesting their records;

• Date and place of birth, and/or date and place of birth for any minor child or children;

• Current mailing address;

• Current daytime telephone number;

• Current e-mail address, if available;

• Reason for the request;

• Dates or estimated dates the passport was issued;

• Passport numbers or any other information that will help locate the records; and

• A copy of the requestor's valid photo identification.

All requests for passport records issued from 1925 to the present should be mailed to the following address: Department of State, Passport Services, Law Enforcement Liaison Division, Room 500, 1111 19th Street, NW., Washington, DC 20524-1705.

2. Prior to 1925

The National Archives and Records Administration maintains records for passport issuances prior to 1925, which may be requested by writing to the following address: National Archives and Records Administration, Archives 1, Reference Branch, 8th & Pennsylvania Ave., NW., Washington, DC.

B. Vital Records—Certificates of Birth Abroad, Report of Death, Certificate of Witness to Marriage, and Certification of No Record

Submit a signed and notarized written request including all pertinent facts of the occasion along with a copy of the requester's valid photo identification. Only the subject, parent, or legal guardian may request a birth record. The following information must be included in the request:

General Background Information

• Date of request.

• Purpose of request.

• Document Requesting (Certificate of Birth, Report of Death, Certificate of Witness of Marriage (prior to 1985), or Certification of No Record).

• Number of documents requesting.

• Current mailing address and daytime telephone number.

Facts of Birth, Death, or Marriage

• Name (at birth/death/marriage).

• Name after adoption (if applicable).

• Date of birth/death/marriage.

• Country of birth/death/marriage.

• Father's name.

• Father's date and place (state/country) of birth.

• Mother's name.

• Mother's date and place (state/country) of birth.

Previous Passport Information

• Passport used to first enter the U.S. (if applicable).

• Name of bearer.

• Date of issuance.

• Passport number.

• Date of inclusion (if applicable, and if passport was not issued to the subject).

Current Passport Information

• Name of bearer.

• Date of issuance.

• Passport number.

If requesting an amendment or correction to a Consular Report of Birth Abroad, please include certified copies of all documents appropriate for effecting the change (i.e., foreign birth certificate, marriage certificate, court ordered adoption or name change, birth certificates of adopting or legitimating parents, etc.). The original or replacement FS-240, or a notarized affidavit concerning its whereabouts also must be included.

All requests for vital records through the Passport Office request process should be mailed to the following address: U.S. Department of State, Passport Services, Vital Records Section, 1111 19th Street, NW., Suite 510, Washington, DC 20522-1705.

RECORD SOURCE CATEGORIES:

These records contain information obtained primarily from the individual who is the subject of these records; law enforcement agencies; investigative intelligence sources, investigative security sources; and officials of foreign governments.

SYSTEMS EXEMPTED FROM CERTAIN PROVISIONS OF THE ACT:

Certain records contained within this system of records may be exempt from the requirements of the Privacy Act when it is necessary to:

• Protect material required to be kept secret in the interest of national defense and foreign policy;

• Prevent individuals that are the subject of investigation from frustrating the investigatory process, to ensure the proper functioning and integrity of law enforcement activities, to prevent disclosure of investigative techniques, to maintain the confidence of foreign governments in the integrity of the procedures under which privileged or confidential information may be provided, and to fulfill commitments made to sources to protect their identities and the confidentiality of information and to avoid endangering these sources and law enforcement personnel; or

• Preclude impairment of the Department's effective performance in carrying out its lawful protective responsibilities under 18 U.S.C. 3056 and 22 U.S.C. 4802.

Records meeting any of the above criteria are exempt from the following subsections of 5 U.S.C. 552a(c)(3), (d), (e)(1), (e)(4)(G), (e)(4)(H), (e)(4)(I), and (f) (2007). See 22 CFR 171.36(b)(1), (b)(2), and (b)(3) (2007).

Dated: December 31, 2007.
Maura Harty,
Assistant Secretary for the Bureau of Consular Affairs, Department of State.

[FR Doc. E8-202 Filed 1-8-08; 8:45 am]

BILLING CODE 4710-06-P